DEPARTMENT OF JUSTICE

Antitrust Division

Notice Pursuant to the National Cooperative and Production Act of 1993—Laser Forming of Complex Structures

Notice is hereby given that, on December 18, 2002, pursuant to section 6(a) of the National Cooperative Research and Production Act of 1993, 15 U.S.C. 4301 et seq. (“the Act”), General Electric Company has filed written notifications simultaneously with the Attorney General and the Federal Trade Commission disclosing (1) the identities of the parties to and (2) the nature and objectives of a joint venture. The notifications were filed for the purpose of invoking the Act's provisions limiting the recovery of antitrust plaintiffs to actual damages under specified circumstances. Pursuant to Section 6(b) of the Act, the identities of the parties are GE Corporate Research and Development, Niskayuna, NY; Caterpillar Inc., Peoria, NY; Columbia University, New York, NY; A. Zahner Company, Kansas City, MO; and Native American Technologies Co., Golden, CO. The nature and objectives of the research project are to develop laser forming of complex structures. The activities of this project will be partially funded by an award from the Advanced Technology program, National Institute of Standards and Technology, Department of Commerce.

Constance K. Robinson,
Director of Operations, Antitrust.

[FR Doc. 03-1418 Filed 1-22-03; 8:45 am]

BILLING CODE 4410-11-M